DEPARTMENT OF THE INTERIOR

National Park Service

[NPS-WASO-CONC-39199; PPWOBSADC0, PPMVSCS1Y.Y00000]

Notice of Intent To Extend Concession Contracts at Yellowstone National Park

AGENCY: National Park Service, Interior.

ACTION: Public notice.

SUMMARY: Under the terms of its regulations and the applicable concession contracts, the National Park Service (NPS) notifies the public that it intends to extend each concession contract listed in the table below. NPS will extend the contracts until the date shown in the “Extension Expiration Date” column or until the effective date of a new contract, whichever comes first.

DATES: NPS intends that the concession contract extensions will be effective on the dates shown in the table below, as applicable.

FOR FURTHER INFORMATION CONTACT: Kurt Rausch, Program Chief, Commercial Services Program, National Park Service, 1849 C Street NW, Mail Stop 2410, Washington, DC 20240; telephone: 202-513-7156.

SUPPLEMENTARY INFORMATION: Under 36 CFR 51.23, NPS proposes to extend each contract listed in the table below until the date shown in the “Extension Expiration Date” column or until the effective date of a new contract, whichever comes first. NPS has determined that the proposed extensions are necessary to avoid an interruption of visitor services and has taken all reasonable and appropriate steps to consider alternatives to avoid such an interruption. The extension of the existing contracts does not confer or affect any rights with respect to the award of new contracts.

The publication of this notice reflects NPS's intent but does not bind NPS to extend any of the contracts listed below.

Table—Concession Contracts Extended Until the Expiration Date Shown or Until the Effective Date of a New Contract, Whichever Comes First
Park unit | CONCID | Concessioner | Extension effective date | Extension expiration date
Yellowstone NP | YELL500-14 | Arden Bailey | 7/1/2025 | 6/30/2026
Yellowstone NP | YELL501-14 | Three Bear Rentals, LLC | 7/1/2025 | 6/30/2026
Yellowstone NP | YELL502-14 | Three Bear Rentals, LLC | 7/1/2025 | 6/30/2026
Yellowstone NP | YELL503-14 | DNC Parks & Resorts Yellowstone Adventures, Inc | 7/1/2025 | 6/30/2026
Yellowstone NP | YELL504-14 | Back Country Adventures Inc | 7/1/2025 | 6/30/2026
Yellowstone NP | YELL505-14 | DNC Parks & Resorts Yellowstone Adventures, Inc | 7/1/2025 | 6/30/2026
Yellowstone NP | YELL506-14 | DNC Parks & Resorts Yellowstone Adventures, Inc | 7/1/2025 | 6/30/2026
Yellowstone NP | YELL507-14 | DNC Parks & Resorts Yellowstone Adventures, Inc | 7/1/2025 | 6/30/2026
Yellowstone NP | YELL508-14 | DNC Parks & Resorts Yellowstone Adventures, Inc | 7/1/2025 | 6/30/2026
Yellowstone NP | YELL509-14 | DNC Parks & Resorts Yellowstone Adventures, Inc | 7/1/2025 | 6/30/2026
Yellowstone NP | YELL510-14 | DNC Parks & Resorts Yellowstone Adventures, Inc | 7/1/2025 | 6/30/2026
Yellowstone NP | YELL511-14 | DNC Parks & Resorts Yellowstone Adventures, Inc | 7/1/2025 | 6/30/2026
Yellowstone NP | YELL512-14 | ARAMARK Sports and Entertainment Services, LLC | 7/1/2025 | 6/30/2026
Yellowstone NP | YELL513-14 | ARAMARK Sports and Entertainment Services, LLC | 7/1/2025 | 6/30/2026
Yellowstone NP | YELL514-14 | ARAMARK Sports and Entertainment Services, LLC | 7/1/2025 | 6/30/2026
Yellowstone NP | YELL515-14 | ARAMARK Sports and Entertainment Services, LLC | 7/1/2025 | 6/30/2026
Yellowstone NP | YELL516-14 | ARAMARK Sports and Entertainment Services, LLC | 7/1/2025 | 6/30/2026
Yellowstone NP | YELL517-14 | ARAMARK Sports and Entertainment Services, LLC | 7/1/2025 | 6/30/2026
Yellowstone NP | YELL518-14 | ARAMARK Sports and Entertainment Services, LLC | 7/1/2025 | 6/30/2026
Yellowstone NP | YELL519-14 | Teton Science Schools, Inc | 7/1/2025 | 6/30/2026
Yellowstone NP | YELL520-14 | Teton Science Schools, Inc | 7/1/2025 | 6/30/2026
Yellowstone NP | YELL522-14 | Gary Fales Outfitting, Inc | 7/1/2025 | 6/30/2026
Yellowstone NP | YELL523-14 | DNC Parks & Resorts Yellowstone Adventures, Inc | 7/1/2025 | 6/30/2026

Justin Unger,
Associate Director, Business Services.

[FR Doc. 2025-01240 Filed 1-17-25; 8:45 am]

BILLING CODE 4312-53-P